DEPARTMENT OF HOUSING AND URBAN DEVELOPMENT

[Docket No. FR-5383-N-10]

Notice of Proposed Information Collection for Public Comment Public Housing Agency Plan Revisions To Implement Requirements for Certain Qualified Public Housing Agencies Under the Housing and Economic Recovery Act (HERA) 2008

AGENCY: Office of the Assistant Secretary for Public and Indian Housing, HUD.

ACTION: Notice.

SUMMARY: The proposed information collection requirement described below will be submitted to the Office of Management and Budget (OMB) for review, as required by the Paperwork Reduction Act of 1995 (44 U.S.C. Chapter 35, as amended). The Department is soliciting public comments on the subject proposal.

DATES: Comments Due Date: July 26, 2010.

ADDRESSES: Interested persons are invited to submit comments regarding this proposal. Comments should refer to the proposal by name/or OMB Control number and should be sent to: Leroy McKinney, Jr., Departmental Reports Management Officer, QDAM, Department of Housing and Urban Development, 451 7th Street, SW., Room 4178, Washington, DC 20410-5000; telephone 202-402-8048, (this is not a toll-free number) or email Mr. McKinney at Leroy.McKinneyJr@hud.gov. Persons with hearing or speech impairments may access this number through TTY by calling the toll-free Federal Information Relay Service at 800-877-8339. (Other than the HUD USER information line and TTY numbers, telephone numbers are not toll-free.)

FOR FURTHER INFORMATION CONTACT: Dacia Rogers, Office of Policy, Programs and Legislative Initiatives, PIH, Department of Housing and Urban Development, 451 7th Street, SW., Room 4116, Washington, DC 20410; telephone 202-402-3374, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: 5-Year and Annual Public Housing Agency (PHA) Plan OMB Control Number, if applicable: 2577-0226.

Description of the Need for the Information and Proposed Use: Section 2702 of Title VII—Small Public Housing Authorities Paperwork Reduction Act, of the Housing and Economic Recovery Act (HERA) of 2008 amends section 5A(b) of the 1937 Act by establishing “qualified public housing agencies”, a category of PHAs with less than 550 public housing units and tenant-based vouchers combined that are provided substantial paperwork relief, primarily with respect to the PHA Annual Plan requirements in section 5(A)(b) of the United States Housing Act of 1937. The paperwork relief exempts qualified PHAs from the requirement to prepare and submit an annual PHA plan to HUD for review. This Act impacts approximately sixty-eight percent, or 2,802 of the 4,114 PHAs that are required to submit Annual and 5-Year PHA Plans. This information collection revises previously OMB approved forms HUD-50077 and HUD-50075, and adds Civil Rights certification (form HUD-50077-CR) formerly appearing on form HUD-50077 as a separate document. The form HUD-50075 deletes category for “HCV only PHAs” and adds categories for “Qualified PHAs,” “Non-Qualified PHAs” and “Troubled PHAs” in Section 1.0 containing PHA Information; adds a new section to describe activities for implementing the Violence Against Women Act (Section 5.3); incorporates a table identifying all Annual PHA Plan elements (Section 6.0); adds a new Section 6.1 for Admissions Policy for the Deconcentration of Lower-Income Families; adds a new requirement (Section 6.9(c)) under Additional Information for Troubled and Standard PHAs to include or reference any applicable memorandum of agreement with HUD or any plan to improve performance and any other information required by HUD; revises the list of Required Documents to add forms HUD-50077-CR, HUD-50077-SL, and Admissions Policy for Deconcentration of Lower-Income Families, lists separately the required PHA Plan attachments for Qualified and Non-Qualified PHAs (Section 7.0); minor edits to the Instructions page of form HUD-50075, including a new requirement under the component for Operation and Management to update PHA Plans where PHAs have opted to implement non-smoking policies in public housing; and renumbers other sections of the form. The currently proposed form HUD-50075 will be used by all PHAs—high performing, standard, troubled, non-qualified, and qualified, who will only complete the 5-Year Plan information, sections 5.0 through 5.3—the mission, goals and objectives of the PHA and the goals, objectives, policies, or programs for servicing victims of domestic violence, dating violence, sexual assault, or stalking and submit the template every 5 years. Qualified PHAs no longer submit information on discretionary programs (demolition or disposition, HOPE VI, Project-based vouchers, required or voluntary conversion, homeownership, or capital improvements, etc.) as part of an Annual PHA Plan submission. However, Qualified PHAs that intend to implement these activities are still subject to the full application and approval processes that exist for demolition or disposition, designated housing, conversion, homeownership, and other special application processes that will no longer be tied to prior authorization in an Annual PHA Plan for a Qualified PHA. All PHAs, including the PHAs identified as Qualified PHAs under HERA, must continue to submit any demolition or disposition, public housing conversion, homeownership, or other special applications as applicable to HUD's Special Applications Center (SAC) in Chicago for review and approval or to HUD Headquarters for CFFP proposals. Information on special applications can be found at the SAC Web site: http://www.hud.gov/offices/pih/centers/sac/about/overview.cfm. The following Web site at: http://www.hud.gov/offices/pih/programs/ph/capfund/index.cfm contains information on the Capital Fund Financing Program (CFFP), and Operating Fund Financing Program (OFFP). http://www.hud.gov/offices/pih/programs/ph/am/. Qualified PHAs should, as a matter of good business practice, continue to keep their residents, the general public, and the local HUD office apprised of any plans to initiate these types of programs and activities. Revisions to form HUD-50077-CR deletes, “if there is no Board of Commissioner” from paragraph 1, line 2. Qualified-only PHAs will complete proposed form HUD-50077-CR. To more accurately reflect the application requirements of PHAs for the Capital Fund Program, form HUD-50077 deletes item 3, “The PHA certifies that there has been no change, significant or otherwise, to the Capital Fund Program (and Capital Fund Program/Replacement Housing Factor) Annual Statement(s), since submission of its last approved Annual Plan. The Capital Fund Program Annual Statement/Annual Statement/Performance and Evaluation Report must be submitted annually even if there is no change.” and redesignates items (4), (5), (6), (7), (8), (9), (10), (11), (12), (13), (14), (15), (16), (17), (18), (19), (20), (21), and (22), as (3), (4), (5), (6), (7), (8), (9), (10), (11), (12), (13), (14), (15), (16), (17), (18), (19), (20), and (21), respectively. Non-Qualified only PHAs are required to complete form HUD-50077. The PHA plan is a web-based submission process (allowing PHAs to retrieve the applicable templates) that allows PHAs to provide their plans to HUD via the Internet. The system allows HUD to track plans with limited reporting and any changes from the previous submission.

Agency Form Numbers: HUD-50075; HUD-50075.1, HUD-50075.2, HUD-50077, HUD-50077-CR, HUD-50077-SL, HUD-50070.

Members of the Affected Public: Local, Regional and State Body Corporate Politic Public Housing Agencies (PHAs) Governments.

Estimation of the total number of hours needed to prepare the information collection including number of respondents, frequency of response, and hours of response: The estimated number of burden hours needed to prepare the information collection is 111,005; estimated number of respondents is 4,114; the frequency of response for qualified PHAs is once every 5 years and when any interim changes in discretionary programs have been made and/or every year on a rolling 5-year basis. For example, PHAs Fiscal Year beginning (FYB) 2006, covers the PHA's fiscal years 2007-2011. The next Five-Year Plan would be due for the PHA's FYB 2011 and would cover fiscal years 2012-2016; the estimated time to prepare the response varies depending on the interim changes in discretionary programs; and, the average annual burden hours per PHA is 5.4 hours. Consequently, this information collection reduces the total administrative burden hours accordingly and associated costs to approximately 68% (2,802 PHAs) of the total PHA inventory (4,114 PHAs).

Status of the Proposed Information Collection: This is a revision of currently approved collection. The revision is necessary to implement paperwork relief to qualified PHAs, as provided in Section 2702 of Title VII—Small Public Housing Authorities Paperwork Reduction Act, of the Housing and Economic Recovery Act of 2008.

Authority: The Paperwork Reduction Act of 1995, 44 U.S.C. Chapter 35, as amended.

Dated: May 20, 2010.
Merrie Nichols-Dixon,
Acting Deputy Assistant Secretary for Policy, Programs, and Legislative Initiatives.

[FR Doc. 2010-12702 Filed 5-25-10; 8:45 am]

BILLING CODE 4210-67-P